DEPARTMENT OF LABOR

Employment and Training Administration

[TA-W-64,132]

JDS Uniphase, Including On-Site Leased Workers From Job Store Staffing Solutions and Spherion, Louisville, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 28, 2008, applicable to workers of JDS Uniphase, including on-site leased workers of Job Store Staffing Solutions, Louisville, Colorado. The notice was published in the Federal Register on November 13, 2008 (73 FR 67209).

At the request of the State agency, the Department reviewed the certification for workers of the subject firm. The workers are engaged in the production of optical transceivers.

New information shows that workers leased from Spherion were employed on-site at the Louisville, Colorado location of JDS Uniphase. The Department has determined that these workers were sufficiently under the control of JDS Uniphase to be considered leased workers.

Based on these findings, the Department is amending this certification to include workers leased from Spherion working on-site at the Louisville, Colorado location of the subject firm.

The intent of the Department's certification is to include all workers employed at JDS Uniphase, Louisville, Colorado who were adversely affected by increased imports and a shift in production of optical transceivers to China.

The amended notice applicable to TA-W-64,132 is hereby issued as follows:

“All workers of JDS Uniphase, including on-leased workers of Job Store Staffing Solutions and Spherion, Louisville, Colorado, who became totally or partially separated from employment on or after September 26, 2007, through October 28, 2010, are eligible to apply for adjustment assistance under Section 223 of the Trade Act of 1974, and are also eligible to apply for alternative trade adjustment assistance under Section 246 of the Trade Act of 1974.”

Signed at Washington, DC, this 18th day of November 2008.
Richard Church,
Certifying Officer, Division of Trade Adjustment Assistance.

[FR Doc. E8-28363 Filed 11-28-08; 8:45 am]

BILLING CODE 4510-FN-P